DEPARTMENT OF THE INTERIOR

Bureau of Ocean Energy Management

[OMB Control Number 1010-0081; Docket ID: BOEM-2023-0004]

Agency Information Collection Activities; Operations in the Outer Continental Shelf for Minerals Other Than Oil, Gas, and Sulfur

AGENCY: Bureau of Ocean Energy Management, Interior.

ACTION: Notice of information collection; request for comment.

SUMMARY: In accordance with the Paperwork Reduction Act of 1995, the Bureau of Ocean Energy Management (BOEM) proposes this information collection request (ICR) to renew Office of Management and Budget (OMB) Control Number 1010-0081.

DATES: Comments must be received by OMB no later than July 12, 2023.

ADDRESSES: Submit your written comments on this ICR to the OMB's desk officer for the Department of the Interior at www.reginfo.gov/public/do/PRAMain. From the www.reginfo.gov/public/do/PRAMain landing page, find this information collection by selecting “Currently under Review—Open for Public Comments” or by using the search function. Please provide a copy of your comments by parcel delivery to the BOEM Information Collection Clearance Officer, Anna Atkinson, Bureau of Ocean Energy Management, 45600 Woodland Road, Sterling, Virginia 20166; or by email to anna.atkinson@boem.gov. Please reference OMB Control Number 1010-0081 in the subject line of your comments. You may also comment by searching the docket number “BOEM-2023-0004” at www.regulations.gov. Comments submitted in response to this notice are a matter of public record and will be available for public review on www.reginfo.gov.

FOR FURTHER INFORMATION CONTACT: Anna Atkinson by email at anna.atkinson@boem.gov or by telephone at 703-787-1025. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

Title of Collection: “30 CFR part 582, Operations in the Outer Continental Shelf for Minerals Other than Oil, Gas, and Sulfur.”

Abstract: The Outer Continental Shelf (OCS) Lands Act (43 U.S.C. 1334 and 1337(k)(1)) authorizes the Secretary of the Interior to issue leases on available areas of the U.S. OCS to the highest qualified bidder to develop any mineral resources other than oil, gas, and sulfur. The Secretary may prescribe the royalty, rental, and other terms and conditions at the time the lease is offered. The act also authorizes the Secretary to issue regulations governing such leasing.

The Secretary delegated authority to implement these provisions governing leasing and development of minerals other than oil, gas, and sulfur to BOEM. The Department's regulations at 30 CFR part 582 implement the statutory requirements governing such OCS leasing and development.

Competitive leasing has not occurred for OCS minerals other than oil, gas, and sulfur in many years. Accordingly, BOEM has not generally collected information under the part 582 regulations. However, given the regulatory requirements and heightened interest in critical minerals, the potential exists that BOEM may require information under this part. Therefore, BOEM seeks OMB renewal of this information collection.

BOEM will use the information required by 30 CFR part 582 to determine if lessees are complying with the regulations for mining minerals other than oil, gas, and sulfur. BOEM will also use the information to ensure orderly resource development; to protect the human, marine, and coastal environments; and to conduct the requisite technical and environmental evaluations that inform BOEM's decision to approve, disapprove, or require modification of the proposed activities.

OMB Control Number: 1010-0081.

Form Number: None.

Type of Review: Extension of a currently approved information collection.

Respondents/Affected Public: Potential respondents are OCS lessees.

Total Estimated Number of Annual Responses: 20 responses.

Total Estimated Number of Annual Burden Hours: 212 hours.

Respondent's Obligation: Mandatory.

Frequency of Collection: Monthly, quarterly, or on occasion.

Total Estimated Annual Non-Hour Burden Cost: None.

We expect the burden estimate for the renewal will be 212 hours. In calculating the burdens, we assumed that respondents perform certain requirements in the normal course of their activities. We consider these to be usual and customary and took that into account in estimating the burden.

A Federal Register notice with a 60-day public comment period on this proposed ICR was published on March 3, 2023 (88 FR 13464). BOEM received one public comment that opposed oil drilling on the OCS. Oil drilling is outside the scope of this ICR. No change in the burden was required.

BOEM is again soliciting comments on the proposed ICR. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record and will be available for public review on www.reginfo.gov. You should be aware that your entire comment—including your address, phone number, email address, or other personally identifiable information included in your comment—may be made publicly available. Even if BOEM withholds your information in the context of this ICR, your comment is subject to the Freedom of Information Act (FOIA). If your comment is requested under FOIA, your information will only be withheld if BOEM determines that a FOIA exemption to disclosure applies. BOEM will make such a determination in accordance with the Department of the Interior's (DOI's) FOIA regulations and applicable law.

In order for BOEM to consider withholding from disclosure your personally identifiable information, you must identify, in a cover letter, any information contained in your comments that, if released, would constitute a clearly unwarranted invasion of your personal privacy. You must also briefly describe any possible harmful consequence of the disclosure of information, such as embarrassment, injury, or other harm.

BOEM protects proprietary information in accordance with FOIA (5 U.S.C. 552) and DOI's implementing regulations (43 CFR part 2).

An agency may not conduct or sponsor, and a person is not required to respond to, a collection of information unless it displays a valid OMB control number.

The authority for this action is the Paperwork Reduction Act of 1995 (44 U.S.C. 3501 et seq.).

Karen Thundiyil,
Chief, Office of Regulations, Bureau of Ocean Energy Management.

[FR Doc. 2023-12465 Filed 6-9-23; 8:45 am]

BILLING CODE 4340-98-P